DEPARTMENT OF DEFENSE

Office of the Secretary

[Transmittal No. 25-51]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-51, Policy Justification, and Sensitivity of Technology.

Dated: January 22, 2026.
Stephanie J. Bost,
Alternate OSD Federal Register Liaison Officer, Department of Defense.

BILLING CODE 6001-FR-P

BILLING CODE 6001-FR-C

Transmittal No. 25-51

Notice of Proposed Issuance of Letter of Offer Pursuant to Section 36(b)(1) of the Arms Export Control Act, as amended

(i) Prospective Purchaser: Government of Denmark

(ii) Total Estimated Value:

Major Defense Equipment * | $4.25 billion
Other | $4.25 billion
TOTAL | $8.50 billion

(iii) Description and Quantity or Quantities of Articles or Services under Consideration for Purchase:

Major Defense Equipment (MDE):

Thirty-six (36) PATRIOT MIM-104E Guidance Enhanced Missiles-Tactical (GEM-T)

Twenty (20) PATRIOT Advanced Capability-3 (PAC-3) Missile Segment Enhancement

Two (2) AN/MPQ-65 radar sets

Two (2) Engagement Control Stations

Two (2) Radar Interface Unit modification kits

Six (6) PATRIOT M903A2 launching stations (LS)

Six (6) Integrated Battle Command System (IBCS) software launcher integrated network kits

Two (2) IBCS Engagement Operations Centers

Two (2) IBCS Integrated Collaborative Environments

Six (6) IBCS integrated fire control network relays

Two (2) Electrical Power Plants III

Non-Major Defense Equipment:

The following non-MDE items will also be included: communications equipment including, but not limited to, AN/TPX-57A identification friend or foe (IFF), Defense Advanced Global Positioning System (GPS) Receiver (DAGR), AN/PYQ-10 Simple Key Loader, KIV-77 encryptor, KG-250X Inline Network Encryptor, IPS-250X HAIPE Encryptor, future Combat Net Radio, and AN/PRC-163 radio; tools and test equipment; support equipment; generators; publications and technical documentation; training equipment including the Air Defense Reconfigurable Trainer; spare and repair parts; personnel training; Technical Assistance Field Team support; United States (U.S.) Government and contractor technical assistance and services, engineering, and logistics support; System Integration and Checkout; field office support; and other related elements of logistics and program support.

(iv) Military Department: Army (DE-B-VMI)

(v) Prior Related Cases, if any: None

(vi) Sales Commission, Fee, etc., Paid, Offered, or Agreed to be Paid: None known at this time

(vii) Sensitivity of Technology Contained in the Defense Article or Defense Services Proposed to be Sold: See Attached Annex

(viii) Date Report Delivered to Congress: August 29, 2025

* as defined in Section 47(6) of the Arms Export Control Act.

POLICY JUSTIFICATION

Denmark—Integrated Battle Command System Enabled PATRIOT

The Government of Denmark has requested to buy thirty-six (36) PATRIOT MIM-104E guidance enhanced missile-tactical (GEM-T) ballistic missiles; twenty (20) PATRIOT Advanced Capability-3 (PAC-3) Missile Segment Enhancement (MSE) missiles; two (2) AN/MPQ-65 radar sets; two (2) Engagement Control Stations (ECS); two (2) Radar Interface Units (RIU) modification kits; six (6) PATRIOT M903A2 launching stations (LS); six (6) Integrated Battle Command System (IBCS) Software Launcher Integrated Network Kits (LINKs); two (2) IBCS Engagement Operations Centers (EOCs); two (2) IBCS Integrated Collaborative Environments (ICE); six (6) IBCS integrated fire control network (IFCN) relays; and two (2) Electrical Power Plants III (EPP III). The following non-MDE items will also be included: communications equipment including, but not limited to, AN/TPX-57A identification friend or foe (IFF), Defense Advanced Global Positioning System (GPS) Receiver (DAGR), AN/PYQ-10 Simple Key Loader, KIV-77 encryptor, KG-250X Inline Network Encryptor, IPS-250X HAIPE Encryptor, future Combat Net Radio, and AN/PRC-163 radio; tools and test equipment; support equipment; generators; publications and technical documentation; training equipment including the Air Defense Reconfigurable Trainer; spare and repair parts; personnel training; Technical Assistance Field Team support; U.S. Government and contractor technical assistance and services, engineering, and logistics support; System Integration and Checkout; field office support; and other related elements of logistics and program support. The estimated total cost is $8.5 billion.

This proposed sale will support the foreign policy and national security objectives of the U.S. by improving the security of a NATO Ally that is a force for political stability and economic progress in Europe.

The proposed sale will improve Denmark's capability to meet current and future threats by increasing its combat capability. Denmark will use these munitions to defend NATO Allies and its partners. Denmark will have no difficulty absorbing these articles and services into its armed forces.

The proposed sale of this equipment and support will not alter the basic military balance in the region.

The principal contractors will be RTX Corporation, located in Arlington, VA; Lockheed-Martin, located in Dallas, TX; and Northrop Grumman, located in Falls Church, VA. At this time, the U.S. Government is not aware of any offset agreement proposed in connection with this potential sale. Any offset agreement will be defined in negotiations between the purchaser and the contractor.

Implementation of this proposed sale will require the assignment of 12-17 additional U.S. Government and 17-23 contractor representatives to travel to Denmark periodically for up to 7 years for equipment fielding, system checkout, training, and technical and logistics support.

There will be no adverse impact on U.S. defense readiness as a result of this proposed sale.

Transmittal No. 25-51

Notice of Proposed Issuance of Letter of Offer Pursuant to Section 36(b)(1) of the Arms Export Control Act

Annex

Item No. vii

(vii) Sensitivity of Technology:

1. The PATRIOT Advanced Capability-3 (PAC-3) Missile Segment Enhanced (MSE) missile is a small, highly agile, kinetic interceptor for defense against tactical ballistic missiles, cruise missiles, and air-breathing threats. The MSE variant of the PAC-3 missile is the next generation of hit-to-kill interceptors and provides expanded battlespace against evolving threats. The PAC-3 MSE improves upon the original PAC-3 capability with a higher performance solid rocket motor, modified lethality enhancer, more responsive control surfaces, upgraded guidance software, and insensitive munitions improvements.

2. The PATRIOT MIM-104E Guidance Enhanced Missiles-Tactical (GEM-T) missile is the latest in-production series of the highly successful RTX Patriot missile variants available to both U.S. forces and international partners. GEM-T deliveries to the U.S. Army began in 2006. This capability adds a low-noise oscillator for improved acquisition and tracking performance. The GEM-T missile provides an upgraded capability to defeat tactical ballistic missiles, cruise missiles, and adversary aircraft in complement to the PAC-3 missile.

3. The AN/MPQ-65 Configuration 3+ Increment 3 PATRIOT radar set (RS) consists of a multifunction phased-array radar mounted on a semitrailer. The RS is powered by an electric power plant and controlled by the Radar Interface Unit (RIU). The AN/MPQ-65 RS provides airspace surveillance, detection, target tracking, identification, classification, discrimination, missile acquisition, missile tracking, missile guidance, and electronic counter- countermeasures. The RS has the capability to track a wide range of targets under a variety of conditions and support the simultaneous operation of multiple PATRIOT missiles to defend against a threat.

4. The Configuration 3+ Increment 3 RIU provides operational control of the PATRIOTMPQ-65 RS. The RIU is an adapted Patriot AN/MSQ-132 Configuration 3+ Increment 3 Engagement Control Station (ECS) with a Patriot A-kit modification kit added.

5. The M903 launcher stations can launch the entire family of PATRIOT missiles.

6. The Army Integrated Air and Missile Defense (AIAMD) Integrated Battle Command System (IBCS) adapts existing and forthcoming air and missile defense (AMD) sensors, weaponry, and mission command technologies into a unified defense system. This integration facilitates a comprehensive air picture, enhances defended areas, and provides flexible deployment options. IBCS comprises two primary components: the Engagement Operations Center (EOC) and the IBCS integrated fire control network relays. The EOC delivers C4ISR functions at the battalion, battery, and platoon levels within the AMD task force.

7. The Integrated Battle Command System (IBCS) enhances defense effectiveness by using composite tracks from multiple sensors to provide accurate target tracking and weapon firing solutions. It offers a common engagement center and data sharing across all Army AMD echelons, improving response to threats with near real-time coordination. IBCS supports dynamic defense design, extended range, and non-line-of-sight engagements, reducing coverage gaps, manpower, and costs while improving training capabilities.

8. The AN/TPX-57A(V)1 Identification Friend or Foe (IFF) system is a highly sensitive military technology designed to securely identify friendly aircraft and vehicles in contested environments. It uses advanced Mode 5 encryption, ensuring secure and reliable authentication to prevent spoofing or misidentification. The system is critical for reducing the risk of friendly fire and enhancing situational awareness in joint operations. Strict export controls and access restrictions safeguard the AN/TPX-57A(V)1 from unauthorized use, ensuring its capabilities remain protected to support national security and allied interoperability.

9. The Defense Advanced Global Positioning System (GPS) Receiver (DAGR) is a small commercial NAVSTAR GPS receiver designed for military operations. The Selective Availability/Anti Spoofing Module (SAASM) is a security device controlling the encryption that enables Precise Positioning Service (PPS) Y-code signals from GPS satellites and resists adversary attempts to spoof GPS signals. The DAGR with SAASM will provide position and location information necessary for ground-based operation. The DAGR provides secure, SAASM-based GPS in the most reliable and proven handheld form available today. It is the military-grade, dual frequency receiver, and has the security hardware necessary to decode encrypted P(Y)-code GPS signals. Features include graphical screen, with the ability to overlap map images, 12-channel continuous satellite tracking for “all-in view” operation, simultaneous L1/L2 dual frequency GPS signal reception, extended performance in a diverse jamming environment, and SAASM compatibility.

10. The Simple Key loader (SKL) is a ruggedized, portable, hand-held device, for securely receiving, storing, and transferring data between compatible cryptographic and communications equipment. The SKL employs type 1 encryption to protect stored key data, and its software, firmware, and security architecture are subject to strict Department of Defense (DoD) and National security Agency (NSA) security controls. The SKL is considered an unclassified controlled item (CCI).

11. The KIV-77 Encryptor is a highly sensitive cryptographic device certified by the National Security Agency (NSA) to secure Mode ⅘ Identification Friend or Foe (IFF) systems. It provides advanced encryption to authenticate friendly aircraft and vehicles, ensuring secure and reliable identification while preventing spoofing or unauthorized access. The KIV-77 is critical for enhancing situational awareness, reducing the risk of friendly fire, and supporting joint and allied operations. Strict export controls and access restrictions protect the KIV-77 from unauthorized use, ensuring its capabilities remain secure and vital to national defense.

12. The KG-250X Inline Network Encryptor is a highly sensitive device certified by the National Security Agency (NSA) to protect classified U.S. Government and military communications up to the Top Secret/SCI level. It ensures secure, high-speed encryption for critical data transmitted over networks, including voice, video, and large-scale operations. The KG-250X features advanced anti-tamper protections, secure key management, and interoperability with other secure systems, making it essential for safeguarding national security. Strict export controls and access restrictions are in place to prevent unauthorized use or compromise, ensuring its capabilities remain protected from adversaries.

13. The IPS-250X HAIPE Encryptor is a highly sensitive device certified by the National Security Agency (NSA)to protect classified U.S. Government and military communications up to the Top Secret/SCI level. It uses advanced encryption to secure data transmitted over IP networks, ensuring confidentiality and integrity for critical operations. Designed for interoperability, it integrates seamlessly with other secure systems and features anti-tamper protections and secure key management. Strict export controls and access restrictions safeguard the IPS-250X from unauthorized use or compromise, making it a vital tool for protecting national security.

14. The AN/PRC-163 Multichannel Handheld Radio is a highly advanced and sensitive communication device designed to provide secure, simultaneous voice, data, and video transmission for U.S. military and allied forces. It supports multiple waveforms, including SATCOM, SINCGARS, and TrellisWare TSM, ensuring interoperability across tactical networks. With NSA-certified encryption, dual-channel operation, and a rugged design, the AN/PRC-163 is critical for maintaining secure and reliable communication in dynamic and contested environments. Strict export controls and access restrictions safeguard the device from unauthorized use, ensuring its capabilities remain secure and essential to national security.

15. The Combat Net Radio will replace the RT-1523 Single Channel Ground and Airborne Radio System (SINCGARS). The RT-1523F Receiver-Transmitter is a core component of the SINCGARS (Single Channel Ground and Airborne Radio System) family, providing secure voice and data communication for U.S. military and allied forces. It supports frequency-hopping technology to resist jamming and interception, ensuring reliable communication in contested environments. The RT-1523F is versatile, used in manpack, vehicle-mounted, and base station configurations, making it essential for tactical operations and command and control. Strict export controls and access restrictions protect the RT-1523F from unauthorized use, ensuring its capabilities remain secure and vital to national defense.

16. The highest level of classification of defense articles, components, and services included in this potential sale is SECRET.

17. If a technologically advanced adversary were to obtain knowledge of the specific hardware and software elements, the information could be used to develop countermeasures that might reduce system effectiveness or be used in the development of a system with similar or advanced capabilities.

18. A determination has been made that Denmark can provide substantially the same degree of protection for the sensitive technology being released as the U.S. Government. This proposed sale is necessary in furtherance of the U.S. foreign policy and national security objectives outlined in the Policy Justification.

19. All defense articles and services listed in this transmittal have been authorized for release and export to the Government of Denmark.

[FR Doc. 2026-01491 Filed 1-26-26; 8:45 am]

BILLING CODE 6001-FR-P